DEPARTMENT OF TRANSPORTATION

Federal Aviation Administration

14 CFR Part 71

[Docket No. FAA-2008-0066; Airspace Docket No. 08-ANE-97]

Establishment of Class E Airspace; Dover-Foxcroft, ME

AGENCY: Federal Aviation Administration (FAA), DOT.

ACTION: Final rule, correction, confirmation of effective date.

SUMMARY: The Federal Aviation Administration published in the Federal Register of February 21, 2008 (73 FR 9448), a document establishing Class E airspace at Dover-Foxcroft, ME. This action confirms the effective date of a direct final rule that establishes Class E Airspace at Dover-Foxcroft, ME to support a new Area Navigation (RNAV) Global Positioning System (GPS) Special Instrument Approach Procedure (IAP) that has been developed for medical flight operations into the Mayo Regional Hospital Heliport and technically corrects the omission of the word “heliport” from the name of Mayo Regional Hospital Heliport.

DATES: Effective 0901 UTC, June 5, 2008. The Director of the Federal Register approves this incorporation by reference action under title 1, Code of Federal Regulations, part 51, subject to the annual revision of FAA Order 7400.9 and publication of conforming amendments.

FOR FURTHER INFORMATION CONTACT: Melinda Giddens, System Support Group, Eastern Service Center, Federal Aviation Administration, P.O. Box 20636, Atlanta, Georgia 30320; telephone (404) 305-5610.

SUPPLEMENTARY INFORMATION:

Confirmation of Effective Date

The FAA published this direct final rule with a request for comments in the Federal Register on February 21, 2008 (73 FR 9448) to establish Class E airspace at Dover-Foxcroft, ME. The FAA uses the direct final rulemaking procedure for a non-controversial rule where the FAA believes that there will be no adverse public comment. This direct final rule advised the public that no adverse comments were anticipated, and that unless a written adverse comment, or a written notice of intent to submit such an adverse comment, were received within the comment period, the regulation would become effective on June 5, 2008. No adverse comments were received, and thus this notice confirms that effective date.

Correction to Final Rule

After publication in the Federal Register, it was discovered that the word heliport was omitted from the name of the hospital and was incorrectly published as “Mayo Regional Hospital”. The name should have read “Mayo Regional Hospital Heliport”. This action corrects that error.

Accordingly, pursuant to the authority delegated to me, the name for Mayo Regional Hospital, Dover-Foxcroft, ME, as published in the Federal Register on February 21, 2008 (73 FR 9448), Federal Docket No. FAA-2008-0066 is corrected as follows:

§ 71.1 [Corrected]

* * * * *

Mayo Regional Hospital [Corrected]

ANE ME E5 Dover-Foxcroft, ME [NEW]

Mayo Regional Hospital Heliport

(Lat. 45°11′19″ N., long. 69°14′12″ W.)

Point in Space Coordinates

(Lat. 45°11′31″ N., long. 69°15′24″ W.)

That airspace extending upward from 700 feet above the surface of the Earth within a 6-mile radius of the Point in Space Coordinates (lat. 45°11′31″ N., long. 69°15′24″ W.) serving the Mayo Regional Hospital Heliport.

* * * * *

Issued in College Park, Georgia, on April 8, 2008.
Kathy Swann,
Acting Manager, System Support Group, Eastern Service Center, Air Traffic Organization.

[FR Doc. E8-9043 Filed 4-29-08; 8:45 am]

BILLING CODE 4910-13-M